DEPARTMENT OF COMMERCE

International Trade Administration

[A-533-843]

Certain Lined Paper Products From India: Notice of Preliminary Results of Antidumping Duty Administrative Review; 2013-2014

AGENCY: Enforcement and Compliance, International Trade Administration, U.S. Department of Commerce.

SUMMARY: The Department of Commerce (the Department) is conducting an administrative review of the antidumping duty order on certain lined paper products (CLPP) from India.¹ The period of review (POR) is September 1, 2013, through August 31, 2014.² We preliminarily determine that during the POR, mandatory respondent Kokuyo Riddhi ³ made sales of subject merchandise at less than normal value (NV) and mandatory respondent SAB International (SAB) did not. Interested parties are invited to comment on these preliminary results.

¹ See Notice of Amended Final Determination of Sales at Less Than Fair Value: Certain Lined Paper Products from the People's Republic of China; Notice of Antidumping Duty Orders: Certain Lined Paper Products from India, Indonesia and the People's Republic of China; and Notice of Countervailing Duty Orders: Certain Lined Paper Products from India and Indonesia, 71 FR 56949 (September 28, 2006) (CLPP Order).

² The Department initiated the review with regard to seven companies: Kokuyo Riddhi Paper Products Private Limited (Kokuyo Riddhi), Marisa International (Marisa), Navneet Publications (India) Ltd./Navneet Education Limited (Navneet), Pioneer Stationery Private Limited (Pioneer), Riddhi Enterprises (Riddhi), SAB International (SAB), and Super Impex (AKA M/S Super Impex) (Super Impex). See Initiation of Antidumping and Countervailing Duty Administrative Reviews, 79 FR 64565 (October 30, 2014). We subsequently rescinded the review for three companies: Marisa, Pioneer, and Super Impex. See Certain Lined Paper Products From India: Partial Rescission of Antidumping Duty Administrative Review; 2013-2014, 80 FR 15553 (March 24, 2015).

³ The Department has determined that Kokuyo Riddhi Paper Products Private Limited (Kokuyo Riddhi) is the successor-in-interest to Riddhi Enterprises. See Certain Lined Paper Products From India: Notice of Final Results of Antidumping Duty Changed Circumstances Review, 80 FR 18373 (April 6, 2015) (Final Results of CCR—Kokuyo Riddhi), and the accompanying Issues and Decision Memorandum. Accordingly, we refer to Kokuyo Riddhi and Riddhi Enterprises as Kokuyo Riddhi in this review.

DATES: Effective Date: October 7, 2015.

FOR FURTHER INFORMATION CONTACT: Cindy Robinson or George McMahon, AD/CVD Operations, Office III, Enforcement and Compliance, International Trade Administration, U.S. Department of Commerce, 14th Street and Constitution Avenue NW., Washington DC 20230; telephone (202) 482-3797 or (202) 482-1167, respectively.

Scope of the Order

The merchandise covered by the CLPP Order is certain lined paper products. The merchandise subject to this order is currently classified under the following Harmonized Tariff Schedule of the United States (HTSUS) subheadings: 4811.90.9035, 4811.90.9080, 4820.30.0040, 4810.22.5044, 4811.90.9050, 4811.90.9090, 4820.10.2010, 4820.10.2020, 4820.10.2030, 4820.10.2040, 4820.10.2050, 4820.10.2060, and 4820.10.4000. Although the HTSUS numbers are provided for convenience and customs purposes, the written product description remains dispositive.⁴

⁴ For a complete description of the Scope of the Order, see Memorandum from Christian Marsh, Deputy Assistant Secretary for Antidumping and Countervailing Duty Operations, to Ronald K. Lorentzen, Acting Assistant Secretary for Enforcement and Compliance, “Decision Memorandum for Preliminary Results of Antidumping Duty Administrative Review: Certain Lined Paper Products from India; 2013-2014” dated concurrently with these results and hereby adopted by this notice (Preliminary Decision Memorandum).

Methodology

The Department is conducting this review in accordance with Section 751(a)(2) of the Tariff Act of 1930, as amended (the Act). Export prices have been calculated in accordance with section 772 of the Act. Normal value has been calculated in accordance with section 773 of the Act. Because we disregarded the below-cost sales of Kokuyo Riddhi in the most recent administrative review of these companies completed before the initiation of this review,⁵ we have reasonable grounds to believe or suspect that Kokuyo Riddhi's sales of the foreign like product under consideration for the determination of normal value in this review have been made at prices below the cost of production (COP). Accordingly, pursuant to section 773(b) of the Act, we have conducted a COP analysis of Kokuyo Riddhi's sales. Based on this test, we disregarded certain sales made by Kokuyo Riddhi in its comparison market which were made at below-cost prices.⁶

⁵ See Certain Lined Paper Products From India: Final Results of Antidumping Duty Administrative Review; 2010-2011, 78 FR 22232 (April 15, 2013), as amended in Certain Lined Paper Products from India: Notice of Correction to the Final Results of Antidumping Duty Administrative Review; 2010-2011, 80 FR 29300 (May 21, 2015).

⁶ On June 29, 2015, the President of the United States signed into law the Trade Preferences Extension Act of 2015 (TPEA), which made numerous amendments to the AD and countervailing duty law, including amendments to section 773(b)(2) of the Act, regarding the Department's requests for information on sales at less than cost of production. See Trade Preferences Extension Act of 2015, Pub. L. 114-27, 129 Stat. 362 (2015) (TPEA). The 2015 law does not specify dates of application for those amendments. On August 6, 2015, the Department published an interpretative rule, in which it announced the applicability dates for each amendment to the Act, except for amendments contained to section 771(7) of the Act, which relate to determinations of material injury by the ITC. See Dates of Application of Amendments to the Antidumping and Countervailing Duty Laws Made by the Trade Preferences Extension Act of 2015, 80 FR 46793 (August 6, 2015). The amendments to section 773(b)(2) of the Act are applicable to determinations in which the complete initial questionnaire has not been issued as of August 6, 2015. Id., 80 FR at 46795. Because in this review questionnaires had been issued prior to the applicability date, these specific amendments do not apply to this review. Id., 80 FR at 46794-95. The 2015 amendments may be found at https://www.congress.gov/bill/114th-congress/house-bill/1295/text/pl.

For a full description of the methodology underlying our conclusions, please see the Preliminary Decision Memorandum. The Preliminary Decision Memorandum is a public document and is on file electronically via Enforcement and Compliance's Antidumping and Countervailing Duty Centralized Electronic Service System (ACCESS). ACCESS is available to registered users at http://access.trade.gov and is available to all parties in the Central Records Unit (CRU), room B8024 of the main Department of Commerce building. In addition, a complete version of the Preliminary Decision Memorandum can be accessed directly on the Internet at http://enforcement.trade.gov/frn/index.html. The signed Preliminary Decision Memorandum and the electronic version of the Preliminary Decision Memorandum are identical in content.

Calculation of Normal Value Based on Constructed Value

SAB reported that it made no sales to the home market.⁷ Pursuant to 773(a)(1)(C)(i) of the Act, we examined SAB's third country sales and have determined that such sales do not constitute a viable comparison market (CM) within the meaning of section 773(a)(1)(B)(ii)(II) of the Act.⁸ Therefore, for these preliminary results, we relied on constructed value (CV) as the basis for calculating NV, in accordance with section 773(a)(4) and (e) of the Act.⁹

⁷ See SAB's Section A questionnaire response dated January 26, 2015 (SAB's Sec AQR) at Exhibit A-1 and page 2.

⁸ See SAB's Sec AQR; see also revised data in SAB's Section A-D supplemental questionnaire response dated April 27, 2015 at Exhibits S1-1 (a), Exhibits S1-1 (b), and the accompanying SAB's U.S. and Third Country sales database for sales during the POR.

⁹ See Preliminary Decision Memorandum at 12.

Preliminary Results of the Review

As a result of this review, we preliminarily determine the following weighted-average dumping margins for the POR:

¹⁰ The margin for Navneet is the calculated weighted-average margin of Kokuyo Riddhi, the sole mandatory respondent receiving a margin that is above de minimis in these preliminary results. For further discussion, see the Preliminary Decision Memorandum at the “Margin for Company Not Selected for Individual Examination” section.

Producer/exporter | Weighted- average dumping margin (percent)
Kokuyo Riddhi Paper Products Private Limited (formerly known as Riddhi Enterprises) | 11.77
SAB International | de minimis
Navneet Publications (India) Ltd./Navneet Education Limited ¹⁰ | 11.77

Assessment Rate

Upon issuance of the final results, the Department shall determine, and U.S. Customs and Border Protection (CBP) shall assess, antidumping duties on all appropriate entries covered by this review. For any individually examined respondents whose weighted-average dumping margin is above de minimis, we will calculate importer-specific ad valorem duty assessment rates based on the ratio of the total amount of dumping calculated for the importer's examined sales to the total entered value of those same sales in accordance with 19 CFR 351.212(b)(1).¹¹ We will instruct CBP to assess antidumping duties on all appropriate entries covered by this review when the importer-specific assessment rate calculated in the final results of this review is above de minimis (i.e., 0.50 percent). Where either the respondent's weighted-average dumping margin is zero or de minimis, or an importer-specific assessment rate is zero or de minimis, we will instruct CBP to liquidate the appropriate entries without regard to antidumping duties. The final results of this review shall be the basis for the assessment of antidumping duties on entries of merchandise covered by the final results of this review where applicable.

¹¹ In these preliminary results, the Department applied the assessment rate calculation method adopted in Antidumping Proceedings: Calculation of the Weighted-Average Dumping Margin and Assessment Rate in Certain Antidumping Proceedings: Final Modification, 77 FR 8101 (February 14, 2012).

In accordance with the Department's “automatic assessment” practice, for entries of subject merchandise during the POR produced by each respondent for which they did not know that their merchandise was destined for the United States, we will instruct CBP to liquidate unreviewed entries at the all-others rate if there is no rate for the intermediate company(ies) involved in the transaction. For a full discussion of this clarification, see Antidumping and Countervailing Duty Proceedings: Assessment of Antidumping Duties, 68 FR 23954 (May 6, 2003).

We intend to issue instructions to CBP 15 days after publication of the final results of this review.

Cash Deposit Requirements

The following cash deposit requirements will be effective upon publication of the notice of final results of administrative review for all shipments of subject merchandise entered, or withdrawn from warehouse, for consumption on or after the publication date of the final results of this administrative review, as provided by section 751(a)(2)(C) of the Act: (1) The cash deposit rate for Kokuyo Riddhi and SAB will be the rates established in the final results of this administrative review; (2) for merchandise exported by manufacturers or exporters not covered in this administrative review but covered in a prior segment of the proceeding, the cash deposit rate will continue to be the company-specific rate published for the most recently completed segment of this proceeding in which that manufacturer or exporter participated; (3) if the exporter is not a firm covered in this review, a prior review, or the original less-than-fair-value investigation, but the manufacturer is, the cash deposit rate will be the rate established for the most recently completed segment of this proceeding for the manufacturer of the merchandise; and (4) the cash deposit rate for all other manufacturers or exporters will continue to be 3.91 percent, the all-others rate established in the investigation.

Disclosure and Public Comment

The Department intends to disclose to interested parties to this proceeding the calculations performed in connection with these preliminary results within five days after the date of publication of this notice.¹² Pursuant to 19 CFR 351.309(c)(1)(ii), interested parties may submit case briefs not later than 30 days after the date of publication of this notice. Rebuttal briefs, limited to issues raised in the case briefs, may be filed not later than five days after the date for filing case briefs.¹³ Parties who submit case briefs or rebuttal briefs in this proceeding are requested to submit with the argument: (1) A statement of the issue, (2) a brief summary of the argument, and (3) a table of authorities.¹⁴ All case and rebuttal briefs must be filed electronically using ACCESS, and must also be served on interested parties.¹⁵ An electronically filed document must be received successfully in its entirety by the Department's electronic records system, ACCESS, by 5:00 p.m. Eastern Time within 30 days after the date of publication of this notice. Executive summaries should be limited to five pages total, including footnotes.

¹² See 19 CFR 351.224(b).

¹³ See 19 CFR 351.309(d).

¹⁴ See 19 CFR 351.309(c)(2) and (d)(2).

¹⁵ See 19 CFR 351.303(f).

Pursuant to 19 CFR 351.310(c), interested parties who wish to request a hearing must submit a written request to the Assistant Secretary for Enforcement and Compliance, U.S. Department of Commerce. All documents must be filed electronically using ACCESS. An electronically-filed request must be received successfully in its entirety by ACCESS by 5:00 p.m. Eastern Time, within 30 days after the date of publication of this notice.¹⁶ Requests should contain the party's name, address, and telephone number, the number of participants, and a list of the issues to be discussed. If a request for a hearing is made, the Department intends to hold the hearing at the U.S. Department of Commerce, 14th Street and Constitution Avenue NW., Washington, DC 20230, at a time and date to be determined. Parties should confirm by telephone the date, time, and location of the hearing two days before the scheduled date.

¹⁶ See 19 CFR 351.310(c).

Unless the deadline is extended pursuant to section 751(a)(2)(B)(iv) of the Act and 19 CFR 351.213(h)(2), the Department intends to issue the final results of this administrative review, including the results of our analysis of the issues raised by the parties in their case and rebuttal briefs, within 120 days after the publication of these preliminary results, pursuant to section 751(a)(3)(A) of the Act and 19 CFR 351.213(h).

Notification to Importers

This notice serves as a preliminary reminder to importers of their responsibility under 19 CFR 351.402(f)(2) to file a certificate regarding the reimbursement of antidumping and/or countervailing duties prior to liquidation of the relevant entries during this review period. Failure to comply with this requirement could result in the Department's presumption that reimbursement of antidumping and/or countervailing duties occurred and the subsequent assessment of double antidumping duties.

These preliminary results of review are issued and published in accordance with sections 751(a)(1) and 777(i)(1) of the Act.

Dated: September 30, 2015.
Ronald K. Lorentzen,
Acting Assistant Secretary for Enforcement and Compliance.

Appendix

List of Topics Discussed in the Preliminary Decision Memorandum

I. Summary

II. Background

A. Initiation of the Administrative Review

B. Partial Rescission of the 2013-2014 Administrative Review

C. Selection of Respondents for Individual Examination

D. Kokuyo Riddhi

E. SAB

III. Scope of the Order

IV. Discussion of Methodology

A. Date of Sale

B. Comparisons to Normal Value

C. Product Comparisons

D. Determination of the Comparison Method

E. Results of the DP Analysis

1. Kokuyo Riddhi

2. SAB

F. U.S. Price

G. Normal Value

1. Home Market Viability and Comparison Market Selection

2. Kokuyo Riddhi

3. SAB

4. Level of Trade

H. Cost of Production Analysis

1. Calculation of COP

2. Test of Comparison Market Prices and COP

3. Results of COP Test

4. Calculation of Normal Value Based on Comparison Market Prices

5. Calculation of Normal Value Based on Constructed Value

I. Margin for Company Not Selected for Individual Examination

J. Currency Conversion

V. Recommendation

[FR Doc. 2015-25572 Filed 10-6-15; 8:45 am]

BILLING CODE 3510-DS-P